DEPARTMENT OF ENERGY

Federal Energy Regulatory Commission

[Docket No. IC04-512-001, FERC-512]

Commission Information Collection Activities, Proposed Collection; Comment Request; Submitted for OMB Review

July 28, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission did not receive any comments in response to an earlier Federal Register notice of February 17, 2004 (69 FR 7460-61) and has noted this in its submission to OMB.

DATES: Comments on the collection of information are due by August 27, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-512-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866)208-3676, or for TTY, contact (202)502-8659.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC-512, “Application for Preliminary Permit”

2. Sponsor: Federal Energy Regulatory Commission

3. Control No. 1902-0073.

The Commission is now requesting that OMB approve a three-year extension of the expiration date, with no changes to the existing collection. The information filed with the Commission is mandatory.

4. Necessity of the Collection of Information: Submission of the information is necessary for the Commission to carry out its responsibilities in implementing the statutory provisions of sections 4(f), 5 and 7 of the Federal Power Act (FPA), 16 U.S.C. 797, 798 & 800. The purpose of obtaining a preliminary permit is to maintain priority for an application for a hydropower facility license while the applicant conducts surveys to prepare maps, plans, specifications and estimates; conducts engineering, economic and environmental feasibility studies; and making financial arrangements. The conditions under which the priority will be maintained are set forth on each permit. During the term of the permit, no other application for a preliminary permit or application for a license submitted by another party can be accepted. The term of the permit is three years. The information collected under the designation FERC-512 (preliminary permit) is in the form of a written application. The information is used by Commission staff to determine an applicant's qualifications to hold a preliminary permit, review the proposed hydropower project development for feasibility and to issue a notice of the application in order to solicit public and agency comments. The Commission implements the filing requirements in the Code of Regulations (CFR) under 18 CFR 4.31-33, 4.80-83.

5. Respondent Description: The respondent universe currently comprises 50 applications (average per year) subject to the Commission's jurisdiction.

6. Estimated Burden: 3,650 total hours, 50 respondents (average per year), 1 response per respondent, and 73 hours per response (average).

7. Estimated Cost Burden to Respondents: 3,650 hours / 2080 hours per years × $107,185 per year = $188,089. The cost per respondent is equal to $3,762.

Statutory Authority: Sections 4(f), 5 and 7 of the FPA (16 U.S.C. 797, 798 and 800).

Linda Mitry,
Acting Secretary.

[FR Doc. E4-1718 Filed 8-2-04; 8:45 am]

BILLING CODE 6717-01-P